DEPARTMENT OF HEALTH AND HUMAN SERVICES

Centers for Disease Control and Prevention

[30Day-20-0822]

Agency Forms Undergoing Paperwork Reduction Act Review

In accordance with the Paperwork Reduction Act of 1995, the Centers for Disease Control and Prevention (CDC) has submitted the information collection request titled “The National Intimate Partner and Sexual Violence Survey (NISVS)” to the Office of Management and Budget (OMB) for review and approval. CDC previously published a “Proposed Data Collection Submitted for Public Comment and Recommendations” notice on October 9, 2019 to obtain comments from the public and affected agencies. CDC received two anonymous non-substantive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

The National Intimate Partner and Sexual Violence Survey (NISVS) (OMB Control No. 0920-0822, Exp. 02/29/2020)—Revision—National Center for Injury Prevention and Control (NCIPC), Centers for Disease Control and Prevention (CDC).

Background and Brief Description

This is a revision request for the currently approved National Intimate Partner and Sexual Violence Survey (NISVS, OMB# 0920-0822). In 2010, the National Intimate Partner and Sexual Violence Surveillance System (NISVS) reported that approximately 6.9 million women and 5.6 million men experienced rape, physical violence and/or stalking by an intimate partner within the last year. The health care costs of IPV exceed $5.8 billion each year, nearly $3.9 billion of which is for direct medical and mental health care services. In order to address this important public health problem, CDC implemented, beginning in 2010, the National Intimate Partner and Sexual Violence Surveillance System that produces national and state level estimates of Intimate Partner Violence (IPV), Sexual Violence (SV) and stalking on an annual basis.

This revision request describes the planned testing of a redesign of the National Intimate Partner and Sexual Violence Survey (NISVS) and the approach for collecting NISVS data using multiple data collection modes and sampling strategies. More specifically, this revision request is to; (1) Conduct feasibility testing to assess several alternative design features, including the sample frame (address-based sample [ABS], random digit dial [RDD], web panel), mode of response (telephone, web, paper), and incentive structures that help garner participation and help reduce nonresponse. (2) Conduct experiments that inform the development of a protocol for alternative sampling and weighting methods for multi-modal data collection that will result in the ability to calculate accurate and reliable national and state-level estimates of SV, IPV, and stalking, and (3) Conduct a pilot data collection to ensure that the selected optimal alternative sampling methods and multi-modal data collection approaches for NISVS are ready for full-scale implementation.

These data will be used only to inform future NISVS data collections. Results from the feasibility phase experiments may be prepared for publication, as the findings related to optimal data collection modes, sampling frames, and incentive structures are likely to be useful to other federal agencies currently conducting national data collections. No national prevalence estimates will be generated from the data collected during the NISVS redesign project. The feasibility study involves testing of the CATI, paper, and web versions of the NISVS survey using a variety of sampling frames and single vs. multiple modes, all for the purpose of determining a new design for NISVS, and the pilot test of the new design. Data are analyzed using appropriate statistical software to account for the complexity of the survey design to compute weighted counts, percentages, and confidence intervals using national-level data.

OMB approval is requested for three years. The total estimated annualized burden hours are 1,189. There is no cost to respondents other than their time.

Estimated Annualized Burden Hours
Type of respondent | Form name | Number of respondents | Number of responses per respondent | Average burden per response (in hours)
Individuals and Households | Phase 2 Screener—RDD (CATI) | 958 | 1 | 3/60
| Phase 2 Screener—ABS, web | 333 | 1 | 3/60
| Phase 2 Screener—ABS, paper—Roster method | 389 | 1 | 3/60
| Phase 2 Screener—ABS, paper—YMOF Method | 389 | 1 | 3/60
| Phase 2 Questionnaire—RDD (CATI) | 667 | 1 | 40/60
| Phase 2—Questionnaire—ABS, web | 427 | 1 | 25/60
| Phase 2 Questionnaire—ABS, paper | 211 | 1 | 25/60
| Phase 2 Questionnaire—ABS, in-bound CATI | 29 | 1 | 40/60
| Phase 2 Questionnaire—Panel, web | 667 | 1 | 25/60
| Phase 2 Cognitive Testing Protocol—Cognitive testing | 40 | 1 | 1
| Phase 3 Screener—RDD (CATI) | 27 | 1 | 3/60
| Phase 3 Screener—ABS, web | 27 | 1 | 3/60
| Phase 3 Screener—ABS, paper—Roster method | 14 | 1 | 3/60
| Phase 3 Screener ABS, paper—YMOF Method | 13 | 1 | 3/60
| Phase 3 Questionnaire—RDD (CATI) | 22 | 1 | 40/60
| Phase 3 Questionnaire—ABS, web | 29 | 1 | 25/60
| Phase 3 Questionnaire—ABS, paper | 14 | 1 | 25/60
| Phase 3 Questionnaire—ABS, in-bound CATI | 2 | 1 | 40/60

Jeffrey M. Zirger,
Lead, Information Collection Review Office, Office of Scientific Integrity, Office of Science, Centers for Disease Control and Prevention.

[FR Doc. 2020-01378 Filed 1-27-20; 8:45 am]

BILLING CODE 4163-18-P